DEPARTMENT OF TRANSPORTATION

Federal Highway Administration

Environmental Impact Statement; Hamilton County; Indiana

AGENCY: Federal High Administration (FHWA), DOT.

ACTION: Notic of Intent.

SUMMARY: The FHWA is issuing this notice to advise the public that an environmental impact statement will be prepred for a proposed highway project in Hamilton County, Indiana.

FOR FURTHER INFORMATION CONTACT: Mr. Robert Dirks, Environmental Specialist, Federal Highway Adiminstration, Room 254, Federal Office Building, 575 North Pennsylvania Street, Indianapolis, Indiana 46204, Telephone (317) 226-7492; or James E. Juricic, Manager of Environmental Assessment Section, Indiana Department of Transportation (INDOT), Room N848, 100 N. Senate Avenue, Indianapolis, Indiana 46204, Telephone (317) 232-5305. Please refer to Project Designation Number 9905500 in any correspondence.

SUPPLEMENTARY INFORMATION: The FHWA, in cooperation with the INDOT, will prepare an environmental impact statement (EIS) for a proposed improvement project along U.S. Route 31 between Interstate 465 on the south and State Route 38 on the north, a distance of approximately 12 miles. Improvements in the project area are needed to reduce overall travel time, reduce traffic congestion and improve traffic safety. The proposed project is part of the state's effort to provide an improved highway corridor between Indianapolis and South Bend. Preparation of the EIS follows the completion of the U.S. Route 31 Hamilton County Major Investment Study in March of 1997.

The range of alternatives under consideration include the do nothing alternative; alternatives that use other transportation modes; alternatives that maximize the efficiency of the present transportation system; alternatives that reduce highway capacity needs by reducing travel demand; and different build alternatives that will increase the capacity of the U.S. Route 31, including upgrading the facility to a limited access, multilane highway. An alternatives screening process will be conducted to evaluate which alternatives will be carried forward in the EIS process for detailed analysis. Different land use scenarios will be developed for each of the alternatives carried forward in the EIS process.

The scoping process will include early coordination with federal, state and local agencies; the preparation of a scoping document; and a scoping meeting. The scoping meeting will be held after all parties have had an opportunity to review the scoping document and proper notice has been given.

A public involvement program has been developed and will consist of a soon to be established project web site at www.us31indiana.org; distribution of project newsletters; outreach to county and local officials and community and civic groups; two publis meetings prior to the issuance of the draft EIS; and a public hearing to solicit public input on the draft EIS. The first public meeting is intended to introduce the public to the project and to answer questions about the project schedule and process & scope? The second public meeting is intended to provide a preview of the purpose and need statement and the complete range of alternatives evaluated as part of the alternatives screening process. The dates of the public meetings, the release of the draft EIS, and the date of the public hearing will be announced to the public as such dates are established and will also be available at the project web site.

To ensure that the full range of issues related to this proposed action are addressed and all significant issues identified, comments and suggestions are invited from all interested parties.

(Catalog of Federal Domestic Assistance Program Number 20.205, Highway Planning and Construction. The regulations implementing Executive Order 12372 regarding intergovernmental consultation on federal programs and activities apply to this program.)

Authority: 23 U.S.C. 315; 49 CFR 1.48.

Issued on: June 1, 2000.
Robert Dirks,
Environmental Specialist, Indianapolis, Indiana.

[FR Doc. 00-15588 Filed 6-20-00; 8:45 am]

BILLING CODE 4910-22-M